FEDERAL ELECTION COMMISSION

[Notice 2024-01]

Filing Dates for the Ohio Special Election in the 6th Congressional District

AGENCY: Federal Election Commission.

ACTION: Notice of filing dates for special election.

SUMMARY: Ohio has scheduled special elections on March 19, 2024, and June 11, 2024, to fill the U.S. House of Representatives seat in the 6th Congressional District being vacated by Representative Bill Johnson. Committees required to file reports in connection with the Special Primary Election on March 19, 2024, shall file a 12-day Pre-Primary Report. Committees required to file reports in connection with both the Special Primary and Special General Election on June 11, 2024, shall file a 12-day Pre-Primary, a 12-day Pre-General, and a 30-day Post-General Report.

FOR FURTHER INFORMATION CONTACT: Ms. Elizabeth S. Kurland, Information Division, 1050 First Street NE, Washington, DC 20463; Telephone: (202) 694-1100; Toll Free (800) 424-9530.

SUPPLEMENTARY INFORMATION:

Principal Campaign Committees

All principal campaign committees of candidates who participate in the Ohio Special Primary and Special General Elections shall file a 12-day Pre-Primary Report on March 7, 2024; a 12-day Pre-General Report on May 30, 2024; and a 30-day Post-General Report on July 11, 2024. (See charts below for the closing date for each report.)

Note that these reports are in addition to the campaign committee's regular quarterly filings. (See charts below for the closing date for each report).

Unauthorized Committees (PACs and Party Committees)

Political committees not filing monthly are subject to special election reporting if they make previously undisclosed contributions or expenditures in connection with the Ohio Special Primary or Special General Election by the close of books for the applicable report(s). (See charts below for the closing date for each report.)

Committees filing monthly that make contributions or expenditures in connection with the Ohio Special Primary or Special General Elections will continue to file according to the monthly reporting schedule.

Additional disclosure information for the Ohio special elections may be found on the FEC website at https://www.fec.gov/help-candidates-and-committees/dates-and-deadlines/.

Disclosure of Lobbyist Bundling Activity

Principal campaign committees, party committees and leadership PACs that are otherwise required to file reports in connection with the special elections must simultaneously file FEC Form 3L if they receive two or more bundled contributions from lobbyists/registrants or lobbyist/registrant PACs that aggregate in excess of the lobbyist bundling threshold during the special election reporting periods. (See charts below for closing date of each period.) 11 CFR 104.22(a)(5)(v), (b), 110.17(e)(2), (f).

The lobbyist bundling disclosure threshold for calendar year 2023 was $21,800. This threshold amount may change in 2024 based upon the annual cost of living adjustment (COLA). As soon as the adjusted threshold amount is available, the Commission will publish it in the Federal Register and post it on its website. 11 CFR 104.22(g) and 110.17(e)(2).

Calendar of Reporting Dates for Ohio Special Elections
Report | Close of books ¹ | Reg./cert. & overnight mailing deadline | Filing deadline
Political Committees Involved in Only the Special Primary (03/19/2024) Must File
Pre-Primary | 02/28/2024 | 03/04/2024 | 03/07/2024
April Quarterly | 03/31/2024 | 04/15/2024 | 04/15/2024
Political Committees Involved in Both the Special Primary (03/19/2024) and the Special General (06/11/2024) Must File
Pre-Primary | 02/28/2024 | 03/04/2024 | 03/07/2024
April Quarterly | 03/31/2024 | 04/15/2024 | 04/15/2024
Pre-General | 05/22/2024 | ² 05/27/2024 | 05/30/2024
Post-General | 07/01/2024 | 07/11/2024 | 07/11/2024
July Quarterly |  | WAIVED |
October Quarterly | 09/30/2024 | 10/15/2024 | 10/15/2024
Political Committees Involved in Only the Special General (06/11/2024) Must File
Pre-General | 05/22/2024 | ² 05/27/2024 | 05/30/2024
Post-General | 07/01/2024 | 07/11/2024 | 07/11/2024
July Quarterly |  | WAIVED |
October Quarterly | 09/30/2024 | 10/15/2024 | 10/15/2024

Dated: January 11, 2024.
On behalf of the Commission,
Sean J. Cooksey,
Chairman, Federal Election Commission.

[FR Doc. 2024-00780 Filed 1-16-24; 8:45 am]

BILLING CODE 6715-01-P